DEPARTMENT OF VETERANS AFFAIRS

Veterans' Advisory Committee on Rehabilitation; Notice of Meeting

The Department of Veterans Affairs (VA) gives notice under Public Law 92-463 that a meeting of the Veterans' Advisory Committee on Rehabilitation (VACOR), authorized by Public Law 96-466, Subsection 1521, will be held on July 11th through 13th, 2000. The meeting will be held at VA Central Office, 810 Vermont Avenue NW, Room 430, Washington, DC 20420. On July 11th and 12th, the meeting will convent at 9:00 a.m. and adjourn at 4:00 p.m. On July 13th, the meeting will convene at 9:00 a.m. and adjourn at 12:00 noon. The purpose of the meeting is to review the quality of the services which the Department of Veterans Affairs provides to disabled veterans who participate in VA sponsored programs of rehabilitation. In addition, VACOR will conduct an internal business meeting focusing on a review of past activities and the development of future initiatives.

On July 11th, the meeting will begin with opening remarks and an overview of VACOR activities (including the introduction of new members) by the new VACOR Chairman, Mr. Richard K. Pimentel. Schedule permitting, the Honorable Togo D. West, Jr., Secretary of Veterans Affairs, will address VACOR and present certificates of appointment to its new members. Following the Secretary's presentation, Mr. James Adams, Deputy Assistant General Counsel, will brief members on the Federal regulations covering ethical standards for members as well as assist in the completion of required Financial Disclosure Forms. The afternoon session will consist of a review of the VACOR mandate and charter.

On July 12, Mr. Julius Williams, Director of Vocational Rehabilitation and Employment Service (VR&E), along with selected program staff members, will present an update of new VR&E Program initiatives installed with VR&E during the past year. During the afternoon of the 12th, Dr. Mindy L. Aisen, Director of Rehabilitation Research and Development Service, will present a program report on VA rehabilitation research projects entitled, “What We Do Today Impacts On Tommorrow's Rehabilitation Decisions” Honorable Dennis Duffy, Assistant Secretary for Planning and Analysis, will conclude the day's program with a review of the background and research developed in support of the new VA publication, “The Changing Veteran Population: 1990-2020.”

The final day of the meeting, July 13, will consist of a review of past unfinished business, the generation and formulation of recommendations for needed program changes, and a discussion of future meeting sites and potential agenda topics.

All meetings will be open to the public. Oral statements will be heard at the July 13 morning meeting. If additional information is needed, please contact Mr. Frank J. Donlan, Counseling Psychologist, Department of Veterans Affairs, at (202) 273-7436.

Dated: June 1, 2000.
By Direction of the Secretary.
Marvin R. Eason,
Committee Management Officer.

[FR Doc. 00-14375 Filed 6-7-00; 8:45 am]

BILLING CODE 8320-01-M